DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: November 13, 2012 9:00 a.m.-2:45 p.m. EST; November 14, 2012 8:15 a.m.-1:00 p.m. EST.

Place: Centers for Disease Control and Prevention, National Center for Health Statistics, 3311 Toledo Road, Hyattsville, MD 20782.

Status: Open.

Purpose: At this meeting the Committee will hear presentations and hold discussions on several health data policy topics. On the morning of the first day, the Committee will hear updates from HHS components, including the Office of the Assistant Secretary for Planning and Evaluation, the Centers for Medicare and Medicaid Services (CMS), the Office of the National Coordinator for Health Information Technology (ONC), and the Office for Civil Rights (OCR). The Committee will also discuss its draft report on Data Stewardship in Community Health Data for approval. After the lunch break, Subcommittee Co-chairs will brief the Committee on the Community as a Learning Health System, incorporating a quality perspective, and privacy role and contributions.

The agenda for morning of the second day includes a review of the final action item discussed on the first day, a briefing on Data Standards as a continuing theme for the NCVHS and the activities of the Working Group on HHS Data Access and Use. Once the full Committee adjourns, NCVHS's Working Group on HHS Data Access and Use will convene to discuss best practices and suggestions for release of HHS data, and summarize future plans of the Working Group. Further information will be provided on the NCVHS Web site at http://www.ncvhs.hhs.gov/.

The times shown above are for the full Committee meeting. Subcommittee breakout sessions are scheduled for late in the afternoon on the first day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: October 18, 2012.
James Scanlon,
Deputy Assistant Secretary for Planning and Evaluation, Office of the Assistant Secretary for Planning and Evaluation.

[FR Doc. 2012-26228 Filed 10-24-12; 8:45 am]

BILLING CODE 4151-05-P